DEPARTMENT OF THE INTERIOR

Bureau of Indian Affairs

[212A2100DD/AAKC001030/A0A51010.999900]

Notice of Deadline for Submitting Completed Applications To Begin Participation in the Tribal Self-Governance Program in Fiscal Year 2022 or Calendar Year 2022

AGENCY: Office of Self-Governance, Bureau of Indian Affairs, Interior.

ACTION: Notice of application deadline.

SUMMARY: In this notice, the Office of Self-Governance (OSG) establishes the deadline for Indian Tribes/consortia to submit completed applications to begin participation in the Tribal self-governance program in fiscal year 2022 or calendar year 2022.

DATES: Completed application packages must be received by the Director, Office of Self-Governance, by March 1, 2021.

ADDRESSES: Application packages for inclusion in the applicant pool should be sent to Sharee M. Freeman, Director, Office of Self-Governance, Department of the Interior, Mail Stop 3624-MIB, 1849 C Street NW, Washington, DC 20240.

FOR FURTHER INFORMATION CONTACT: Dr. Kenneth D. Reinfeld, Office of Self-Governance, Telephone (202) 821-7107, kenneth.reinfeld@bia.gov.

SUPPLEMENTARY INFORMATION: Under the Tribal Self-Governance Act of 1994 (Pub. L. 103-413), as amended by the Practical Reforms and Other Goals to Reinforce the Effectiveness of Self-Governance and Self-Determination Act of 2019-2020 or the PROGRESS for Indian Tribes Act (Pub. L. 116-180), Section 402(b)(1)(A), the Secretary, acting through the Director of the Office of Self-Governance, may select not more than 50 new Indian Tribes per year from those eligible Tribes. See 25 U.S.C. 5362(b)(1).

The Tribal Self-Governance Act, as amended by the PROGRESS for Indian Tribes Act, mandates that copies of the funding agreements be sent at least 90 days before the proposed effective date to each Indian Tribe that is served by the Bureau of Indian Affairs' agency that is serving the Tribe that is a party to the funding agreement. Initial negotiations with a Tribe/consortium located in a region and/or agency that has not previously been involved with self-governance negotiations will take approximately 2 months from start to finish. Agreements for an October 1 to September 30 funding year need to be signed and submitted by July 1. Agreements for a January 1 to December 31 need to be signed and submitted by October 1.

Eligibility To Participate in Self-Governance

The Department will be initiating a negotiated rulemaking to develop regulations to meet the requirements of Section 101 of the newly enacted PROGRESS Act. To be eligible to participate in self-governance, an Indian Tribe must:

(1) Successfully complete the planning phase described in section 402(d) of the Tribal Self-Governance Act as amended by the PROGRESS Act [25 U.S.C. 5362(d)];

(2) Request participation in self-governance by resolution or other official action by the Tribal governing body;

(3) Demonstrate for the 3 fiscal years preceding the date for which the Tribe requests participation, financial stability and financial management capability as evidenced by the Indian Tribe having no uncorrected significant and material audit exceptions in the required annual audit of its self-determination or self-governance agreements with any Federal Agency.

Planning Phase

An Indian Tribe seeking to begin participation in self-governance must complete a planning phase that:

(1) Is conducted to the satisfaction of the Indian Tribe; and

(2) Includes:

• Legal and budgetary research; and

• Internal Tribal government planning, training, and organizational preparation.

Applicants should be guided by the referenced requirements in preparing their applications to begin participation in the Tribal self-governance program in fiscal year 2022 and calendar year 2022. Copies of these requirements may be obtained from the person identified in the FOR FURTHER INFORMATION CONTACT section of this notice.

Tribes/consortia wishing to be considered for participation in the Tribal self-governance program in fiscal year 2022 or calendar year 2022 must respond to this notice, except for those Tribes/consortia which are either: (1) Currently involved in negotiations with the Department; or (2) one of the 134 Tribal entities with signed agreements.

Information Collection

This information collection is authorized by OMB Control Number 1076-0143, Tribal Self-Governance Program, which expires December 31, 2022.

Tara Sweeney,
Assistant Secretary—Indian Affairs.

[FR Doc. 2020-27786 Filed 12-16-20; 8:45 am]

BILLING CODE 4337-15-P